DEPARTMENT OF COMMERCE

National Oceanic and Atmospheric Administration

50 CFR Part 648

[Docket No. 900124-0127]

RIN 0648-XG418

Atlantic Surfclam and Ocean Quahog Fisheries; 2019 Fishing Quotas for Atlantic Surfclams and Ocean Quahogs; and Suspension of Minimum Atlantic Surfclam Size Limit

AGENCY: National Marine Fisheries Service (NMFS), National Oceanic and Atmospheric Administration (NOAA), Commerce.

ACTION: Temporary rule.

SUMMARY: NMFS suspends the minimum size limit for Atlantic surfclams for the 2019 fishing year. NMFS also announces that the quotas for the Atlantic surfclam and ocean quahog fisheries for 2019 will remain status quo. Regulations governing these fisheries require NMFS to notify the public of the allowable harvest levels for Atlantic surfclams and ocean quahogs from the Exclusive Economic Zone if the previous year's quota specifications remain unchanged.

DATES: Effective January 1, 2019, through December 31, 2019.

FOR FURTHER INFORMATION CONTACT: Douglas Potts, Fishery Policy Analyst, 978-281-9341.

SUPPLEMENTARY INFORMATION: The regulations implementing the Atlantic Surfclam and Ocean Quahog Fishery Management Plan (FMP) at 50 CFR 648.75(b)(3) authorize the Administrator, Greater Atlantic Region, NMFS (Regional Administrator), to suspend annually, by publication in the Federal Register, the minimum size limit for Atlantic surfclams. This action may be taken unless discard, catch, and biological sampling data indicate that 30 percent or more of the Atlantic surfclam resource have a shell length less than 4.75 inches (120 mm), and the overall reduced size is not attributable to harvest from beds where growth of the individual clams has been reduced because of density-dependent factors. At its June 2018 meeting, the Mid-Atlantic Fishery Management Council recommended the Regional Administrator suspend the minimum size limit for Atlantic surfclams for the 2019 fishing year. Commercial surfclam data for 2018 were analyzed to determine the percentage of surfclams that were smaller than the minimum size requirement. The analysis indicated that 20.2 percent of the overall commercial landings were composed of surfclams that were less than the 4.75-in (120-mm) default minimum size.

Based on the information available, the Regional Administrator concurs with the Council's recommendation, and is suspending the minimum size limit for Atlantic surfclams in the upcoming fishing year (January 1 through December 31, 2019).

The Atlantic Surfclam and Ocean Quahog FMP requires that NMFS issue a notice in the Federal Register of the upcoming year's quota, even in cases where the quota remains unchanged from the previous year. At its June 2018 meeting, the Council recommended no change to the quota specifications for Atlantic surfclams and ocean quahogs for the 2019 fishing year. As a result, we are announcing that the 2018 quota levels of 3.4 million bu (181 million L) for Atlantic surfclams, 5.33 million bu (288 million L) for ocean quahogs, and 100,000 Maine bu (3.52 million L) for Maine ocean quahogs, as announced in the Federal Register on February 6, 2018 (83 FR 5212), remain effective for the 2019 fishing year.

Classification

This action is authorized by 50 CFR part 648 and is exempt from review under Executive Order 12866.

Authority: 16 U.S.C. 1801 et seq.

Dated: November 2, 2018.
Karen H. Abrams,
Acting Director, Office of Sustainable Fisheries, National Marine Fisheries Service.

[FR Doc. 2018-24368 Filed 11-6-18; 8:45 am]

BILLING CODE 3510-22-P